DEPARTMENT OF THE TREASURY

Internal Revenue Service

Electronic Tax Administration Advisory Committee (ETAAC); Nominations

AGENCY: Internal Revenue Service (IRS), Department of the Treasury.

ACTION: Request for applications.

SUMMARY: The Internal Revenue Service (IRS) requests applications of individuals to be considered for selection as members of the Electronic Tax Administration Advisory Committee (ETAAC). Nominations should describe and document the proposed member's qualification for ETAAC membership, including the applicant's knowledge of regulations and the applicant's past or current affiliations and dealings with the particular tax segment or segments of the community that the applicant wishes to represent on the council. Applications will be accepted for current vacancies from qualified individuals and from professional and public interest groups that wish to have representation on ETAAC. Submittal of an application and resume is required.

The ETAAC provides an organized public forum for discussion of electronic tax administration issues in support of the overriding goal that paperless filing should be the preferred and most convenient method of filing tax and information returns. ETAAC members convey the public's perception of IRS electronic tax administration activities, offer constructive observations about current or proposed policies, programs, and procedures, and suggest improvements.

The IRS seeks a diverse group of individuals to represent various groups including: (1) Tax practitioners and preparers, (2) tax software developers, (3) large and small business, (4) employers and payroll service providers, (5) individual taxpayers, (6) financial industry (payers, payment options and best practices), (7) system integrators or technology providers, (8) digital or online service providers, (9) academic (marketing, sales or technical perspectives), (10) trusts and estates, (11) tax exempt organizations, and (12) state and local governments.

This is a volunteer position and members will serve a three-year term on the ETAAC to allow for a rotation in membership which ensures that different perspectives are represented. Travel expenses within government guidelines will be reimbursed. Potential candidates must pass an IRS tax compliance check and Federal Bureau of Investigation (FBI) background investigation.

DATES: The complete application package must be received no later than Friday, May 22, 2015.

ADDRESSES: Applications should be sent to Internal Revenue Service, 1111 Constitution Ave. NW., Attn: ETAAC Analyst, Room 7045, SE:OLS:SAS Washington, DC 20224, by email: etaac@irs.gov or by fax to (202) 317-6238 (not a toll-free number). An application can be obtained by sending an email to etaac@irs.gov or calling (202) 317-6247 or (202) 317-6248 (not toll-free numbers).

FOR FURTHER INFORMATION CONTACT: Sean Parman at (202) 317-6247 or Rose Smith at (202) 317-6248, or send an email to etaac@irs.gov.

SUPPLEMENTARY INFORMATION: The establishment and operation of the Electronic Tax Administration Advisory Committee (ETAAC) is required by the Internal Revenue Service (IRS) Restructuring and Reform Act of 1998 (RRA 98), Title II, Section 2001(b)(2). ETAAC follows a charter in accordance with the provisions of the Federal Advisory Committee Act (FACA), 5 U.S.C., App. 2. The ETAAC provides continued input into the development and implementation of the IRS's strategy for electronic tax administration. The ETAAC will research, analyze, consider, and make recommendations on a wide range of electronic tax administration issues and will provide input into the development of the strategic plan for electronic tax administration. Members will provide an annual report to Congress by June 30th.

Applicants must complete the application, which includes describing and documenting your qualifications for membership to the Committee. Submit a short (one or two page) statement, including recent examples, addressing your specific skills and qualifications as they relate to the following: (1) Filing, preparing, or processing tax or information returns/requests electronically (e.g. e-file); (2) Managing a multi-channel customer service environment; (3) Developing web or mobile applications, including experience with human-centered design, front-end and back-end development; (4) Developing software product lines for businesses (specify small/medium sized businesses or large enterprise) and/or consumers; (5) Working in digital commerce environment or financial institution, including managing large volume of digital transactions and improving associated processes; (6) Mitigating cybersecurity risks affecting digital commerce, including, but not limited to identity theft, authentication, and transmission of sensitive data; (7) Incorporating mobile, cloud computing, digital communication, and/or analytics into product or service design; (8) Thinking critically and planning strategically in order to collaborate on digital issues and ideas, preferably electronic tax administration; (9) Managing large scale-business transformation, including digital migration, change management and culture change; (10) Communicating (oral and written) issues and recommendations. An acknowledgement of receipt will be sent to all applicants.

Equal opportunity practices will be followed in all appointments to the ETAAC in accordance with Department of Treasury and IRS policies. The IRS has a special interest in assuring that women and men, members of all races and national origins, and individuals with disabilities have an opportunity to serve on advisory committees: and therefore, extends particular encouragement to nominations from such appropriately qualified individuals.

Dated: March 27, 2015.
David W. Parrish,
Director, Strategic and Analytic Services, Office of Online Services.

[FR Doc. 2015-07336 Filed 3-30-15; 8:45 am]

BILLING CODE P